DEPARTMENT OF TRANSPORTATION

Federal Aviation Administration

14 CFR Part 97

[Docket No. 30570; Amdt. No. 3236]

Standard Instrument Approach Procedures; Miscellaneous Amendments

AGENCY: Federal Aviation Administration (FAA), DOT.

ACTION: Final rule.

SUMMARY: This rule amends Standard Instrument Approach Procedures (SIAPs) for operations at certain airports. These regulatory actions are needed because of changes in the National Airspace System, such as the commissioning of new navigational facilities, adding of new obstacles, or changing air traffic requirements. These changes are designed to provide safe and efficient use of the navigable airspace and to promote safe flight operations under instrument flight rules at the affected airports.

DATES: This rule is effective September 20, 2007. The compliance date for each SIAP is specified in the amendatory provisions.

The incorporation by reference of certain publications listed in the regulations is approved by the Director of the Federal Register as of September 20, 2007.

ADDRESSES: Availability of matter incorporated by reference in the amendment is as follows:

For Examination—

1. FAA Rules Docket, FAA Headquarters Building, 800 Independence Avenue, SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

Availability—All SIAPs are available online free of charge. Visit nfdc.faa.gov to register. Additionally, individual SIAP and Takeoff Minimums and ODP copies may be obtained from:

1. FAA Public Inquiry Center (APA-200), FAA Headquarters Building, 800 Independence Avenue, SW., Washington, DC 20591; or

2. The FAA Regional Office of the region in which the affected airport is located.

FOR FURTHER INFORMATION CONTACT: Harry J. Hodges, Flight Procedure Standards Branch (AFS-420), Flight Technologies and Programs Division, Flight Standards Service, Federal Aviation Administration, Mike Monroney Aeronautical Center, 6500 South MacArthur Blvd., Oklahoma City, OK 73169 (Mail Address: P.O. Box 25082, Oklahoma City, OK 73125) telephone: (405) 954-4164.

SUPPLEMENTARY INFORMATION: This rule amends Title 14, Code of Federal Regulations, Part 97 (14 CFR part 97) by amending the referenced SIAPs. The complete regulatory description of each SIAP is listed on the appropriate FAA Form 8260, as modified by the National Flight Data Center (FDC)/Permanent Notice to Airmen (P-NOTAM), and is incorporated by reference in the amendment under 5 U.S.C. 552(a), 1 CFR part 51, and § 97.20 of Title 14 of the Code of Federal Regulations.

The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained in FAA form documents is unnecessary. This amendment provides the affected CFR sections and specifies the types of SIAP and the corresponding effective dates. This amendment also identifies the airport and its location, the procedure and the amendment number.

The Rule

This amendment to 14 CFR part 97 is effective upon publication of each separate SIAP as amended in the transmittal. For safety and timeliness of change considerations, this amendment incorporates only specific changes contained for each SIAP as modified by FDC/P-NOTAMs.

The SIAPs, as modified by FDC P-NOTAM, and contained in this amendment are based on the criteria contained in the U.S. Standard for Terminal Instrument Procedures (TERPS). In developing these changes to SIAPs, the TERPS criteria were applied only to specific conditions existing at the affected airports. All SIAP amendments in this rule have been previously issued by the FAA in a FDC NOTAM as an emergency action of immediate flight safety relating directly to published aeronautical charts. The circumstances which created the need for all these SIAP amendments requires making them effective in less than 30 days.

Because of the close and immediate relationship between these SIAPs and safety in air commerce, I find that notice and public procedure before adopting these SIAPs are impracticable and contrary to the public interest and, where applicable, that good cause exists for making these SIAPs effective in less than 30 days.

Conclusion

The FAA has determined that this regulation only involves an established body of technical regulations for which frequent and routine amendments are necessary to keep them operationally current. It, therefore—(1) Is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC on September 7, 2007.
James J. Ballough,
Director, Flight Standards Service.

Adoption of the Amendment

Accordingly, pursuant to the authority delegated to me, Title 14, Code of Federal regulations, Part 97, 14 CFR part 97, is amended by amending Standard Instrument Approach Procedures, effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

§ 97.25, 97.27, 97.29, 97.31, 97.33, 97.35 [AMENDED]

Effective 25 OCT 2007

Albertville, AL, Albertville Rgnl-Thomas J Brumlik Fld, RNAV (GPS) RWY 23, Amdt 1

Deadhorse, AK, Deadhorse, ILS OR LOC/DME RWY 5, Amdt 2

Deadhorse, AK, Deadhorse, RNAV (GPS) RWY 5, Amdt 1

Deadhorse, AK, Deadhorse, RNAV (GPS) RWY 23, Amdt 1

Deadhorse, AK, Deadhorse, LOC/DM BC RWY 23, Amdt 11

Deadhorse, AK, Deadhorse, VOR/DME RWY 5, Amdt 2

Deadhorse, AK, Deadhorse, VOR/DME RWY 23, Amdt 4

Deadhorse, AK, Deadhorse, VOR RWY 5, Amdt 4

Deadhorse, AK, Deadhorse, VOR RWY 23, Amdt 6

Deadhorse, AK, Deadhorse, Takeoff Minimums and Obstacle DP, Amdt 1

Kenai, AK, Kenai Muni, RNAV (GPS) RWY 1L, Amdt 1

Kenai, AK, Kenai Muni, RNAV (GPS) RWY 19R, Amdt 1

Kenai, AK, Kenai Muni, VOR/DME RWY 1L, Amdt 7

Kenai, AK, Kenai Muni, VOR RWY 19R, Amdt 18

Kenai, AK, Kenai Muni, Takeoff Minimums and Obstacle DP, Amdt 1

Nome, AK, Nome, ILS OR LOC/DME Y RWY 28, Amdt 3

Nome, AK, Nome, ILS OR LOC/DME Z RWY 28, Amdt 3

Nome, AK, Nome, LOC/DME BC RWY 10, Amdt 3

St Johns, AZ, St Johns Industrial Air Park, VOR/DME-A, Amdt 2

St Johns, AZ, St Johns Industrial Air Park, RNAV (GPS) RWY 14, Orig

Bishop, CA, Eastern Sierra Rgnl, LDA/DME RWY 16, Orig

Middletown, DE, Summit, NDB-A, Amdt 7

Chicago/Aurora, IL, Aurora Muni, ILS OR LOC RWY 33, Orig

Chicago/Aurora, IL, Aurora Muni, RNAV (GPS) RWY 33, Amdt 1

Chicago/Aurora, IL, Aurora Muni, Takeoff Minimums and Obstacle DP, Amdt 1

Fort Scott, KS, Fort Scott Muni, NDB RWY 18, Amdt 12

Hagerstown, MD, Hagerstown Regional/Richard A. Henson Fld, ILS OR LOC RWY 9, Orig

Hagerstown, MD, Hagerstown Regional/Richard A. Henson Fld, LOC RWY 9, Orig, CANCELLED

Portland, ME, Portland Intl Jetport, RADAR-1, Orig, CANCELLED

Charlotte, MI, Fitch H. Beach, RNAV (GPS) RWY 20, Orig

Bemidji, MN, Bemidji Regional, ILS OR LOC/DME RWY 25, Orig

Columbus/W Pt/Starkville, MS, Golden Triangle Rgnl, ILS OR LOC RWY 18, Amdt 7

Columbus/W Pt/Starkville, MS, Golden Triangle Rgnl, VOR/DME OR GPS-E, Amdt 5A, CANCELLED

Columbus/W Pt/Starkville, MS, Golden Triangle Rgnl, VOR OR GPS-D, Amdt 5A, CANCELLED

Elizabeth City, NC, Elizabeth City CG Air Station/Regional, ILS OR LOC RWY 10, Amdt 1

Manville, NJ, Central Jersey Regional, RNAV (GPS) RWY 7, Orig

Manville, NJ, Central Jersey Regional, GPS RWY 7, Orig-A, CANCELLED

Manville, NJ, Central Jersey Regional, RNAV (GPS) RWY 25, Orig

Manville, NJ, Central Jersey Regional, Takeoff Minimums and Obstacle DP, Amdt 3

New York, NY, John F. Kennedy Intl, ILS OR LOC RWY 31R, Amdt 15

Okmulgee, OK, Okmulgee Regional, RNAV (GPS) RWY 18, Amdt 1

Okmulgee, OK, Okmulgee Regional, Takeoff Minimums and Obstacle DP, Amdt 1

Watonga, OK, Watonga Regional, RNAV (GPS) RWY 17, Orig

Watonga, OK, Watonga Regional, VOR/DME-A, Amdt 3

Watonga, OK, Watonga Regional, GPS RWY 17, Orig, CANCELLED

Watonga, OK, Watonga Regional, Takeoff Minimums and Textual DP, Amdt 1

New Castle, PA, New Castle Muni, RNAV (GPS) RWY 5, Amdt 1

New Castle, PA, New Castle Muni, RNAV (GPS) RWY 23, Amdt 1

Pittsburgh, PA, Allegheny County, VOR-A, Orig

Pittsburgh, PA, Allegheny County, Takeoff Minimums and Obstacle DP, Amdt 8

Pittsburgh, PA, Allegheny County, RNAV (GPS) RWY 5, Amdt 2, CANCELLED

Pittsburgh, PA, Allegheny County, VOR RWY 5, Amdt 10, CANCELLED

North Kingstown, RI, Quonset State, ILS OR LOC RWY 16, Amdt 9

North Kingstown, RI, Quonset State, RNAV (GPS) RWY 16, Orig

North Kingstown, RI, Quonset State, RNAV (GPS) RWY 34, Orig

North Kingstown, RI, Quonset State, GPS RWY 34, Amdt 1A, CANCELLED

Lexington-Parsons, TN, Beech River Rgnl, Takeoff Minimums and Obstacle DP, Orig

Austin, TX, Lakeway Airpark, RNAV (GPS) RWY 16, Orig

Austin, TX, Lakeway Airpark, VOR/DME-A, Amdt 1

Austin, TX, Lakeway Airpark, GPS RWY 16, Orig-B, CANCELLED

Bonham, TX, Jones Field, RNAV (GPS) Rwy 35, Orig

Dallas, TX, Addison, Takeoff Minimums and Obstacle DP, Amdt 5

Dallas, TX, Dallas Love Field, Takeoff Minimums and Obstacle DP, Amdt 15

Dallas-Fort Worth, TX, Dallas-FT Worth Intl, CONVERGING ILS RWY 13R, Amdt 6A

Dallas-Fort Worth, TX, Dallas-FT Worth Intl, ILS OR LOC RWY 13R, Amdt 7A

Dallas-Fort Worth, TX, Dallas-FT Worth Intl, RNAV (GPS) Y RWY 13R, Amdt 1A

Dallas-Fort Worth, TX, Dallas-FT Worth Intl, RNAV (GPS) Y RWY 31R, Amdt 1A

Dallas-Fort Worth, TX, Dallas-FT Worth Intl, RNAV (RNP) Z RWY 13R, Orig-A

Dallas-Fort Worth, TX, Dallas-FT Worth Intl, RNAV (RNP) Z RWY 31L, Orig-A

Fort Worth, TX, Fort Worth Spinks, Takeoff Minimums and Obstacle DP, Amdt

Houston, TX, Pearland Rgnl, RNAV (GPS) Rwy 32, Amdt 2

Houston, TX, Pearland Rgnl, VOR-B, Amdt 1

Houston, TX, Pearland Rgnl, Takeoff Minimums and Obstacle DP, Amdt 3

Lancaster, TX, Lancaster, Takeoff Minimums and Obstacle DP, Amdt 1

Mc Kinney, TX, Collin County Regional at McKinney, Takeoff Minimums and Obstacle DP, Orig

Nacogdoches, TX, A L Mangham Jr Regional, ILS OR LOC RWY 36, Amdt 3

Logan, UT, Logan-Cache, ILS OR LOC/DME RWY 17, Orig

Lynchburg, VA, Lynchburg Rgnl/Preston Glenn Fld, ILS OR LOC RWY 4, Amdt 16

Lynchburg, VA, Lynchburg Rgnl/Preston Glenn Fld, RNAV (GPS) RWY 4, Orig

Lynchburg, VA, Lynchburg Rgnl/Preston Glenn Fld, RNAV (GPS) RWY 22, Orig

Lynchburg, VA, Lynchburg Rgnl/Preston Glenn Fld, VOR RWY 4, Amdt 12

Lynchburg, VA, Lynchburg Rgnl/Preston Glenn Fld, GPS RWY 22, Orig-B, CANCELLED

Lynchburg, VA, Lynchburg Rgnl/Preston Glenn Fld, Takeoff Minimums and Obstacle DP, Amdt 7

Manassas, VA, Manassas Rgnl/Harry P. Davis Field, Takeoff Minimums and Obstacle DP, Amdt 3

Melfa, VA, Accomack County, RNAV (GPS) RWY 3, Amdt 1

Melfa, VA, Accomack County, RNAV (GPS) RWY 21, Orig

Melfa, VA, Accomack County, Takeoff Minimums and Obstacle DP, Amdt 1

Tappahannock, VA, Tappahannock-Essex County, RNAV (GPS) RWY 10, Orig

Tappahannock, VA, Tappahannock-Essex County, RNAV (GPS) RWY 28, Orig

Tappahannock, VA, Tappahannock-Essex County, Takeoff Minimums and Obstacle DP, Orig

Fond Du Lac, WI, Fond Du Lac County, LOC/DME RWY 36, Orig

Fond Du Lac, WI, Fond Du Lac County, SDF RWY 36, Amdt 6B, CANCELLED

Effective 20 DEC 2007

Kobuk, AK, Kobuk, RNAV (GPS) RWY 9, Orig

Kobuk, AK, Kobuk, RNAV (GPS) RWY 27, Orig

Kobuk, AK, Kobuk, Takeoff Minimums and Obstacle DP, Orig

The FAA published the following Amendment in Docket No. 30567 Amdt No. 3233 to Part 97 of the Federal Aviation Regulations (Vol. 72, FR No. 172, page 51170, dated, 06 SEP 2007) Under Section 97.15 effective 25 OCT 2007, the Standard Instrument Approach Procedures listed below are hereby corrected to be effective for December 20, 2007.

Kobuk, AK, Kobuk, RNAV (GPS) RWY 9, Orig

Kobuk, AK, Kobuk, RNAV (GPS) RWY 27, Orig

Kobuk, AK, Kobuk, Takeoff Minimums and Obstacle DP, Orig

[FR Doc. E7-18335 Filed 9-19-07; 8:45 am]

BILLING CODE 4910-13-P